DEPARTMENT OF ENERGY

Federal Energy Regulatory Commission

Combined Notice of Filings #1

February 28, 2007.

Take notice that the Commission received the following electric rate filings:

Docket Numbers: ER97-4084-010.

Applicants: Denver City Energy Associates, L.P.

Description: Denver City Energy Associates LP submits its updated triennial market power analysis.

Filed Date: 02/23/2007.

Accession Number: 20070226-0227.

Comment Date: 5 p.m. Eastern Time on Friday, March 16, 2007.

Docket Numbers: ER01-205-018; ER98-2640-016; ER98-4590-014; ER99-1610-022.

Applicants: Xcel Energy Services Inc.; Northern States Power Company and Northern States Power Company; Public Service Company of Colorado; Public Service Company.

Description: Xcel Energy Services Inc (XES), on behalf of itself and the Xcel Energy Operating Companies submits a report summarizing its payments of the refunds required by FERC's 11/9/06 Order.

Filed Date: 02/22/2007.

Accession Number: 20070226-0187.

Comment Date: 5 p.m. Eastern Time on Thursday, March 15, 2007.

Docket Numbers: ER03-1340-003.

Applicants: Chanarambie Power Partners LLC.

Description: Chanarambie Power Partners, LLC submits a triennial updated market power analysis in support of its continued eligibility to sell electric capacity and energy at market based rates.

Filed Date: 02/22/2007.

Accession Number: 20070226-0038.

Comment Date: 5 p.m. Eastern Time on Thursday, March 15, 2007.

Docket Numbers: ER04-157-017.

Applicants: Northeast Utilities Service Company.

Description: Northeast Utilities Service Company on behalf of Connecticut Light and Power Company, et al. submits Third Revised Sheet 103 et al. to a comprehensive, long term transmission service agreement between the NU Companies and the Connecticut Municipal Electric Energy Coop.

Filed Date: 02/21/2007.

Accession Number: 20070227-0089.

Comment Date: 5 p.m. Eastern Time on Wednesday, March 14, 2007.

Docket Numbers: ER06-707-002.

Applicants: Entergy Services, Inc.

Description: Entergy Services, Inc, on behalf of Entergy Arkansas, Inc submits its report of refunds to Arkansas Electric Cooperative Corp pursuant to FERC's letter order of 2/8/07.

Filed Date: 02/23/2007.

Accession Number: 20070227-0091.

Comment Date: 5 p.m. Eastern Time on Friday, March 16, 2007.

Docket Numbers: ER06-723-004.

Applicants: California Independent System Operator Corporation.

Description: California Independent System Operator Corp submits its revised Interim Reliability Requirements Program for Commission approval.

Filed Date: 02/21/2007.

Accession Number: 20070223-0012.

Comment Date: 5 p.m. Eastern Time on Wednesday, March 14, 2007.

Docket Numbers: ER07-87-001.

Applicants: ISO New England, Inc; New England Participating Transmission Owners.

Description: ISO New England, Inc et al. submit proposed amendments to supplement the previously proposed amendments pursuant to Order 2006-B Supplemental Compliance Filing.

Filed Date: 02/23/2007.

Accession Number: 20070227-0088.

Comment Date: 5 p.m. Eastern Time on Friday, March 16, 2007.

Docket Numbers: ER07-266-001; ER06-1485-003.

Applicants: Xcel Energy Services Inc.

Description: Southwestern Public Service Co submits a revised version of Schedule 4A—Reserve Sharing Energy Charges, to Xcel Energy Operating Companies Open Access Transmission Tariff, FERC Electric Tariff, First Revised Volume 1.

Filed Date: 02/23/2007.

Accession Number: 20070226-0037.

Comment Date: 5 p.m. Eastern Time on Friday, March 16, 2007.

Docket Numbers: ER07-341-001.

Applicants: PacifiCorp.

Description: PacifiCorp submits a corrected Letter Order with designation 614 and a refund report.

Filed Date: 02/23/2007.

Accession Number: 20070226-0225.

Comment Date: 5 p.m. Eastern Time on Friday, March 16, 2007.

Docket Numbers: ER07-367-001.

Applicants: Southern California Edison Company.

Description: Southern California Edison Co submits its Substitute Sheets 2 et al. to its FERC Electric Tariff, First Revised Volume 5.

Filed Date: 02/23/2007.

Accession Number: 20070226-0039.

Comment Date: 5 p.m. Eastern Time on Friday, March 16, 2007.

Docket Numbers: ER07-434-001.

Applicants: Pennsylvania Electric Company; Metropolitan Edison Company; Pennsylvania Electric Company; Jersey Central Power & Light Company.

Description: Pennsylvania Power Company et al. submit a correction to its 1/11/07 filed amended market-based rate tariffs which made an incomplete factual statement which does not change the conclusion reached in the legal analysis submitted.

Filed Date: 02/23/2007.

Accession Number: 20070226-0226.

Comment Date: 5 p.m. Eastern Time on Friday, March 16, 2007.

Docket Numbers: ER07-563-000.

Applicants: Wisconsin Public Service Corporation.

Description: Wisconsin Public Service Corp submits the 2006 Annual Formula Rate Update for post-employee benefits.

Filed Date: 02/21/2007.

Accession Number: 20070223-0013.

Comment Date: 5 p.m. Eastern Time on Wednesday, March 14, 2007.

Docket Numbers: ER07-565-000.

Applicants: FirstLight Hydro Generating Company.

Description: FirstLight Hydro Generating Company informs FERC, that as a result of a name change, it has succeeded to the market-based Rate tariff.

Filed Date: 02/23/2007.

Accession Number: 20070226-0224.

Comment Date: 5 p.m. Eastern Time on Friday, March 16, 2007.

Docket Numbers: ER07-566-000.

Applicants: FirstLight Power Resources Management, LLC.

Description: FirstLight Power Resources Management LLC informs FERC that as a result of a name change, it has succeeded to the market-based rate tariff of NE Energy Management LLC.

Filed Date: 02/23/2007.

Accession Number: 20070226-0223.

Comment Date: 5 p.m. Eastern Time on Friday, March 16, 2007.

Docket Numbers: ER07-567-000.

Applicants: Westar Energy, Inc.

Description: Westar Energy, Inc submits Notice of Cancellation of an Electric Power Supply Agreement with the City of Clay Center, Kansas, designated as Rate Schedule FERC 241.

Filed Date: 02/26/2007.

Accession Number: 20070227-0090.

Comment Date: 5 p.m. Eastern Time on Monday, March 19, 2007.

Docket Numbers: ER07-568-000.

Applicants: Pacific Gas and Electric Company.

Description: Pacific Gas and Electric Company (PG&E) submits unexecuted agreements between PG&E and the City and County of San Francisco, Service Agreement for Wholesale Distribution Service.

Filed Date: 02/23/2007.

Accession Number: 20070227-0136.

Comment Date: 5 p.m. Eastern Time on Friday, March 16, 2007.

Docket Numbers: ER07-569-000.

Applicants: California Independent System Operator Corporation

Description: California Independent System Operator Corporation submits an amendment to the ISO's tariff.

Filed Date: 02/23/2007.

Accession Number: 20070227-0087.

Comment Date: 5 p.m. Eastern Time on Friday, March 16, 2007.

Docket Numbers: ER07-570-000.

Applicants: New York Independent System Operator, Inc.

Description: New York Independent System Operator, Inc. submits proposed revisions to its Market Administration and Control Area Services Tariff and its Open Access Transmission Tariff.

Filed Date: 02/23/2007.

Accession Number: 20070227-0042.

Comment Date: 5 p.m. Eastern Time on Friday, March 16, 2007.

Take notice that the Commission received the following electric securities filings:

Docket Numbers: ES07-22-000.

Applicants: PJM Interconnection, LLC.

Description: PJM Interconnection, LLC submit an application under Section 204 of the Federal Power Act for Authorizing the issuance of securities.

Filed Date: 02/21/2007.

Accession Number: 20070223-0164.

Comment Date: 5 p.m. Eastern Time on Wednesday, March 14, 2007.

Docket Numbers: ES07-23-000.

Applicants: Northern Maine Independent System Administrator.

Description: Northern Maine Independent System Administrator, Inc. submits its application under Section 204 of the Federal Power Act for Authorizing the issuance of securities.

Filed Date: 02/21/2007.

Accession Number: 20070223-0165.

Comment Date: 5 p.m. Eastern Time on Wednesday, March 14, 2007.

Docket Numbers: ES07-24-000.

Applicants: Trans-Allegheny Interstate Line Company.

Description: Trans-Allegheny Interstate Line Company's application requesting authorization to enter into a loan, credit or financing agreement to burrow up to $550 Million to enter into interstate rate hedges and to issue up to $550 million of common stock.

Filed Date: 02/22/2007.

Accession Number: 20070226-0040.

Comment Date: 5 p.m. Eastern Time on Thursday, March 15, 2007.

Take notice that the Commission received the following foreign utility company status filings:

Docket Numbers: FC07-11-000.

Applicants: Generadora Montecristo S.A.; Enel Guatemala S.A.

Description: Generadora Montecristo, et al. submit a Self-Certification of Foreign Utility Company Status.

Filed Date: 02/23/2007.

Accession Number: 20070223-5083.

Comment Date: 5 p.m. Eastern Time on Friday, March 16, 2007.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-3973 Filed 3-6-07; 8:45 am]

BILLING CODE 6717-01-P